DEPARTMENT OF HEALTH AND HUMAN SERVICES

Substance Abuse and Mental Health Services Administration

Fiscal Year (FY) 2025 Notice of Supplemental Funding Opportunity

AGENCY: Substance Abuse and Mental Health Services Administration (SAMHSA), Department of Health and Human Services (HHS).

ACTION: Notice of intent to award supplemental funding.

SUMMARY: This notice is to inform the public that Substance Abuse and Mental Health Services Administration (SAMHSA) is supporting administrative supplements in scope of the parent award for the five (5) eligible grant recipients funded under the FY 2020 National Consumer and Consumer Supporter Technical Assistance Centers, Notice of Funding Opportunity (NOFO) SM-20-001. The total available funding is $1,806,000 and each of the five recipients may receive up to $361,200. This supplemental funding will extend the project period by 12 months to March 30, 2026, as SAMHSA completes the agency's efforts to update the program for the field's current needs. Recipients will use the funding to continue to provide technical assistance to promote evidence-based care for adults with serious mental illness within the scope of their active grant award.

FOR FURTHER INFORMATION CONTACT: Damie Jackson-Diop, Public Health Advisor, Substance Abuse and Mental Health Services Administration (SAMHSA), Center for Mental Health Services (CMHS), 5600 Fishers Lane, Rockville, MD 20857, telephone (240) 276-0424; email damie.jackson-diop@samhsa.hhs.gov.

SUPPLEMENTARY INFORMATION:

Funding Opportunity Title: FY 2020 National Consumer and Consumer Supporter Technical Assistance Centers (Consumer and Consumer Supporter TA Centers), SM-20-001.

Assistance Listing Number: 93.243.

Authority: Section 520A of the Public Health Service Act.

Justification: Eligibility for this supplemental funding is limited to the current five recipients. These grant recipients have the capacity and expertise to provide technical assistance to promote evidence-based care for adults with serious mental illness.

This is not a formal request for application. Assistance will only be provided to the five Consumer and Consumer Supporter TA Center recipients funded in FY 2020 under the National Consumer and Consumer Supporter Technical Assistance Centers, SM-20-001, based on the receipt of a satisfactory application and associated budget that is approved by a review group.

Dated: January 6, 2025.
Ann Ferrero,
Public Health Analyst.

[FR Doc. 2025-00427 Filed 1-10-25; 8:45 am]

BILLING CODE 4162-20-P